DEPARTMENT OF AGRICULTURE

Animal and Plant Health Inspection Service

[Docket No. APHIS-2022-0070]

Notice of Request for Extension of Approval of an Information Collection; Veterinary Services Field Operations Services Customer Service Survey Project

AGENCY: Animal and Plant Health Inspection Service, USDA.

ACTION: Extension of approval of an information collection; comment request.

SUMMARY: In accordance with the Paperwork Reduction Act of 1995, this notice announces the Animal and Plant Health Inspection Service's intention to request an extension of approval of an information collection to evaluate service delivery by Veterinary Services Field Operations Service Centers to the public.

DATES: We will consider all comments that we receive on or before February 21, 2023.

ADDRESSES: You may submit comments by either of the following methods:

• Federal eRulemaking Portal: Go to www.regulations.gov. Enter APHIS-2022-0070 in the Search field. Select the Documents tab, then select the Comment button in the list of documents.

• Postal Mail/Commercial Delivery: Send your comment to Docket No. APHIS-2022-0070, Regulatory Analysis and Development, PPD, APHIS, Station 3A-03.8, 4700 River Road, Unit 118, Riverdale, MD 20737-1238.

Supporting documents and any comments we receive on this docket may be viewed at regulations.gov or in our reading room which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Veterinary Services Field Operations Services customer service survey project, contact Dr. Mark Remick, Director, Veterinary Export Trade Services (VETS), VS, Field Operations, APHIS, 4700 River Road, Riverdale, MD, 20737; mark.a.remick@usda.gov; 443-924-0720. For information about the information collection process, contact Mr. Joseph Moxey, APHIS' Paperwork Reduction Act Coordinator; (301) 851-2483; joseph.moxey@usda.gov.

SUPPLEMENTARY INFORMATION:

Title: Veterinary Services Field Operations Services Customer Service Survey Project.

OMB Control Number: 0579-0334.

Type of Request: Extension of approval of an information collection.

Abstract: The Animal and Plant Health Inspection Service (APHIS) of the U.S. Department of Agriculture, among other things, regulates and provides services related to the importation, interstate movement, and exportation of animals, animal products, and other articles to prevent the spread of pests and diseases of livestock. APHIS' Veterinary Services' (VS') Field Operations is the program unit that carries out these activities at the field level through service centers and the air and seaports to protect animal health.

After performing a service for an individual or business at one of the above locations, the VS Field Operations Service Centers conduct a survey to evaluate customer service. The survey consists of a short questionnaire in which respondents are asked to identify the type of customer they are (e.g., pet owner, animal importer/exporter, animal product and byproduct importer/exporter, user of quarantine facilities, or accredited veterinarian), and to rate the services received in terms of courtesy, timeliness, helpfulness, etc. Respondents are also asked to rate and provide comments concerning their overall experience. Completion of the questionnaire is voluntary, and responses do not identify the individual respondent.

Field Operations uses the survey to gain a general view of the public's perception of customer service at VS Service Centers and air and seaports, and identify areas in which VS can improve service delivery to the public and more efficiently meet the needs and expectations of customers.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.089 hours per response.

Respondents: Members of the public who receive services from Veterinary Services (e.g., pet owners, animal importers/exporters, animal product and byproduct importers/exporters, users of quarantine facilities, and accredited veterinarians).

Estimated annual number of respondents: 4,967.

Estimated annual number of responses per respondent: 1.

Estimated annual number of responses: 6,601.

Estimated total annual burden on respondents: 587 hours. (Due to averaging, the total annual burden hours may not equal the product of the annual number of responses multiplied by the reporting burden per response.)

All responses to this notice will be summarized and included in the request for OMB approval. All comments will also become a matter of public record.

Done in Washington, DC, this 14th day of December 2022.
Anthony Shea,
Administrator, Animal and Plant Health Inspection Service.

[FR Doc. 2022-27555 Filed 12-19-22; 8:45 am]

BILLING CODE 3410-34-P